DEPARTMENT OF COMMERCE

Submission for OMB Review; Comment Request

The Department of Commerce will submit to the Office of Management and Budget (OMB) for clearance the following proposal for collection of information under the provisions of the Paperwork Reduction Act (44 U.S.C. Chapter 35).

Agency: National Institute of Standards and Technology, U.S. Department of Commerce.

Title: Proposed Information Collection; Comment Request; Safety and Health Data: Health Unit Information Collection.

OMB Control Number: 0693-XXXX.

Form Number(s): None.

Type of Request: Regular submission, new information collection.

Number of Respondents: 1,000.

Average Hours per Response: 10 minutes per response.

Burden Hours: 166 hours.

Needs and Uses: The National Institute of Standards and Technology (NIST) is a unique federal campus which hosts daily a range of non-federal individuals. Non-federal individuals may include NIST Associates, volunteers, students, and visitors. In order to provide these individuals with proper health care and health documentation, NIST is pursuing approval of three health unit forms.

Affected Public: Some Associates, volunteers, and visitors to NIST.

Frequency: As needed.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer.

[FR Doc. 2018-11172 Filed 5-23-18; 8:45 am]

BILLING CODE 3510-13-P